DEPARTMENT OF THE TREASURY

Submission for OMB Review; Comment Request

December 7, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 14, 2005 to be assured of consideration.

Internal Revenue Service (IRS)

OMB Number: 1545-0633.

Notice Numbers: Notices 437, 437-A, 438 and 466.

Type of Review: Extension.

Title: Notice of Intention to Disclose.

Description: Notice is required by 26 U.S.C. 6100(f). A reply is necessary if the recipient disagrees with the Service's proposed deletions. The Service uses the reply to consider the propriety of making additional deletions to the public inspection version of written determinations or related background file documents.

Respondents: Individuals or households, Business or other for-profit, Not-for-profit institutions, Farms, State, Local or tribal government.

Estimated Number of Respondents: 5,250.

Estimated Burden Hours Respondent: 30 minutes.

Frequency of Response: On occasion.

Estimated Total Reporting Burden: 2,625 hours.

OMB Number: 1545-1349.

Form Number: None.

Type of Review: Revision.

Title: Cognitive and Psychological Research.

Description: The proposed research will improve the quality of the data collection by examining the psychological and cognitive aspects of methods and procedures such as: interviewing processes, forms redesign, survey and tax collection technology and operating procedures (internal and external in nature).

Respondents: Individuals or households, Business or other for-profit.

Estimated Number of Recordkeepers: 75,000.

Estimated Burden Hours Recordkeeper: 30 minutes.

Estimated Total Reporting Burden: 37,500 hours.

Clearance Officer: R. Joseph Durbala (202) 622-3634, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-27391 Filed 12-14-04; 8:45 am]

BILLING CODE 4830-01-P